DEPARTMENT OF JUSTICE

[CPCLO Order No. 001-2015]

Privacy Act of 1974; Systems of Records

AGENCY: Office of Legal Counsel, Department of Justice.

ACTION: Notice of termination of two systems of records.

SUMMARY: Pursuant to the Privacy Act of 1974 (5 U.S.C. 552a), the United States Department of Justice, Office of Legal Counsel, is terminating the systems of records entitled “Office of Legal Counsel Attorney Assignment Reports, JUSTICE/OLC-001” and “Office of Legal Counsel Central File, JUSTICE/OLC-003.” The Department is eliminating the Attorney Assignment Reports system because the reports no longer exist and have been destroyed. The Department is eliminating the Central File system because the 5 x 7 card index no longer exists and the records maintained in the Central File are not retrieved by the name of individuals or by other identifying information assigned to individuals.

Accordingly, the Privacy Act system of records notices last published in the Federal Register on September 4, 1985, 50 FR 35878, 35879, are removed from the Department's compilation of Privacy Act systems.

Dated: January 8, 2015.
Erika Brown Lee,
Chief Privacy and Civil Liberties Officer.

[FR Doc. 2015-01211 Filed 1-22-15; 8:45 am]

BILLING CODE 4410-23-P